DEPARTMENT OF HEALTH AND HUMAN SERVICES

Administration for Children and Families

Proposed Information Collection Activity; Comment Request

Proposed Projects

Title: Application for Office of Refugee Resettlement Targeted Assistance Formula Grants.

OMB No.: New Collection.

Description: The Targeted Assistance Formula Grant program, administered by the Office of Refugee Resettlement (ORR), funds employment and other resettlement services for refugees and entrants who reside in high need areas. These areas are defined as counties with unusually large refugee and entrant populations and with high refugee or entrant population concentrations in relation to the overall county population. Such counties need supplementation of other available resources in order to help refugees and entrants obtain employment as soon as possible. Targeted assistance funds must be used primarily for employability services intended to enable refugees and entrants to obtain jobs with less than one year's participation in the program. Services funded with targeted assistance formula grants must be used to assist refugees and entrants in the following order of priority: (1) Refugees who are cash assistance recipients, particularly long-term recipients; (2) unemployed refugees and entrants who are not receiving cash assistance; and (3) employed refugees and entrants in need of services to retain employment or to attain economic independence. Targeted Assistance Formula Grants are funded under the authority of section 412(c)(2) of the Immigration and Nationality Act, 8 U.S.C. 1522(c)(2). Eligible applicants for these grants are State governments, Wilson/Fish projects, and State Replacement Agencies. Grant amounts under this program area are determined based on a formula using population figures for the past five years. Grantees are re-qualified to participate in this program every three years based on current population figures. The purpose of the proposed Application for Office of Refugee Resettlement Targeted Assistance Formula Grants is to obtain necessary information so that ORR can assess the allowability of applicants' proposed programs. The application will include contact information for the grantee agency and for the local agencies that are proposed as subgrantees; the applicant's allocation plan for the grant funds among qualified counties; a description of the applicant's plan for evaluating and monitoring the subgrantees; a line item budget and budget justification; and performance goals. The application will also require assurances from the applicant that the program will be conducted in accordance with the grant announcement. The application is a necessary data collection to allow ORR to ensure that all targeted assistance applicants propose programs that are in accordance with the Refugee Act and with ORR regulations.

Respondents: State Governments, Wilson/Fish Project Grantees and State Replacement Agencies.

Annual Burden Estimates
Instrument | Number of respondents | Number of responses per respondent | Average burden hours per response | Total burden hours
Application for Office of Refugee Resettlement Targeted Assistance Formula Grants | 30 | 1 | 1 | 30

Estimated Total Annual Burden Hours: 30.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: April 7, 2009.
Janean Chambers,
Reports Clearance Officer.

[FR Doc. E9-8225 Filed 4-9-09; 8:45 am]

BILLING CODE 4184-01-P